DEPARTMENT OF TRANSPORTATION

Federal Highway Administration

Environmental Impact Statement; Hernando and Citrus County, FL

AGENCY: Federal Highway Administration (FHWA), DOT.

ACTION: Notice of intent

SUMMARY: The FHWA is issuing this notice to advise the public that an Environmental Impact Statement (EIS) will be prepared for a proposed highway project in Hernando and Citrus Counties, Florida, concerning the Suncoast Parkway.

FOR FURTHER INFORMATION CONTACT: Mr. Marvin L. Williams, District Transportation Engineer, Federal Highway Administration, 227 N. Bronough Street, Room 2015, Tallahassee, Florida 32301-2015, Telephone: (850) 942-9650 extension 3029 or Ms. Catherine J. Bradley, Project Development Engineer, Florida's Turnpike, P.O. Box 613069, Ocoee, Florida 34761.

SUPPLEMENTARY INFORMATION: The FHWA, in cooperation with the Florida Department of Transportation, will prepare an EIS for a proposal to extend the Suncoast Parkway (SR 589) into Citrus County, Florida. The proposed project would involve the extension of the Suncoast Parkway from its present terminus at U.S. 98 in Hernando County to U.S. 19, south of the Citrus-Levy County line, a distance of approximately 30 miles. The project is considered a vital link in the Florida intrastate Highway System (FIHS).

Alternatives under consideration include (1) taking no action; and (2) the construction of a four-lane divided limited access highway on new alignment.

Coordination with appropriate Federal, State, and local agencies, and private organizations and citizens who have expressed interest in this proposal has been undertaken and will continue. Representative private organizations and citizen groups are being included in the Suncoast Parkway Advisory Group, which will meet periodically throughout the study. A series of public meetings will be held in Citrus County, Florida beginning in late 2002. In addition, a public hearing will be held. Public notice will be given of the date, time and place of the meetings and hearing. The Draft EIS will be made available for public and agency review and comment. A formal scoping meeting is planned for the project on July 25, 2002 at 1:30 PM at the Citrus County Government Building, 3600 West Sovereign Path, Lecanto, Florida 34461.

To ensure that the full range of issues related to the proposed action are addressed and all significant issues identified, comments and suggestions are invited from all interested parties. Comments or questions concerning this proposed action and the EIS should be directed to the FHWA at the address provided above.

(Catalog of Federal Domestic Assistance Program Number 20.205, Highway Research, Planning and Construction. The regulations implementing Executive Order 12372 regarding intergovernmental consultation on Federal programs and activities apply to this program.)
Issued on: June 4, 2002.
Deborah A. Wolfe,
Environmental Specialist, Tallahassee, Florida.

[FR Doc. 02-14586 Filed 6-10-02; 8:45 am]

BILLING CODE 4910-22-M